DEPARTMENT OF HEALTH AND HUMAN SERVICES

Administration for Children and Families

Proposed Information Collection Activity; Comment Request

Title: Maternal and Infant Home Visiting Program Evaluation (MIHOPE) Check-In project—Update contact information, consent forms, child and family outcomes survey.

OMB No.: 0970-0402.

Description: The Administration for Children and Families (ACF), in partnership with the Health Resources and Services Administration (HRSA), both of the U.S. Department of Health and Human Services (HHS), is proposing a data collection activity as part of the Maternal and Infant Home Visiting Program Evaluation (MIHOPE) Check-In project. The purpose of the MIHOPE Check-In project is to maintain up‐to‐date contact information for families that participated in MIHOPE (the national evaluation of the Maternal, Infant, and Early Childhood Home Visiting program), so it is possible to conduct future follow-up studies and assess the potential long-term impact of the program. In addition to contact information, the MIHOPE Check-In project will also maintain up-to-date consent forms for the collection of administrative data and administer a brief survey on child and family outcomes.

Respondents: Adult participants in MIHOPE and adult primary caregivers of children who participated in MIHOPE.

Annual Burden Estimates
Instrument | Total number of respondents | Annual number of respondents | Number of responses per respondent | Average burden hours per response | Total annual burden hours
Child and Family Outcome Assessment and Updating Contact Information | 4,300 | 1,433 | 3 | .50 | 2,150
Updating Administrative Data Consent Forms | 4,300 | 1,433 | 3 | .25 | 1,075

Estimated total annual burden hours: 3225.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Karl Koerper,
Reports Clearance Officer.

[FR Doc. 2014-19717 Filed 8-19-14; 8:45 am]

BILLING CODE 4184-22-P